DEPARTMENT OF DEFENSE

Office of the Secretary

[Docket ID: DOD-2018-HA-0045]

Proposed Collection; Comment Request

AGENCY: Office of the Assistant Secretary of Defense for Health Affairs, DoD.

ACTION: Information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 28, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Decision Support Decision, Defense Health Agency, Attn: Dr. Kimberely Aiyelawo, 7700 Arlington Blvd., Suite 5101, Falls Church, VA 22042-5101, or call 703-681-3636.

SUPPLEMENTARY INFORMATION:

Title; Associated Form; and OMB Number: Department of Defense Patient Safety Culture Survey; OMB Control Number 0720-0034.

Needs and Uses: The 2001 National Defense Authorization Act contains specific sections addressing patient safety in military and veterans' health care systems. This legislation states that the Secretary of Defense shall establish a patient care error reporting and management system to study occurrences of errors in patient care and that one purpose of the system should be to “identify systemic factors that are associated with such occurrences” and “to provide for action to be taken to correct the identified systemic factors.” (Sec. 754, items b2 and b3). In addition, the legislation states that the Secretary shall “continue research and development investments to improve communication, coordination, and team work in the provision of health care.” (Sec. 754, item d4).

In its ongoing response to this legislation, and in support of its mission to “promote a culture of safety to eliminate preventable patient harm by engaging, educating and equipping patient-care teams to institutionalize evidence-based safe practices,” the DoD Patient Safety Program plans to field the Department of Defense Patient Safety Culture Survey. The Culture Survey is based on the Department of Health and Human Services' Agency for Healthcare Research and Quality's validated survey instrument. The survey obtains MHS staff opinions on patient safety issues such as teamwork, communications, medical error occurrence and response, error reporting, and overall perceptions of patient safety.

Affected Public: Federal Government; Individuals or Households.

Annual Burden Hours: 1,533.

Number of Respondents: 9,200.

Responses per Respondent: 1.

Annual Responses: 9,200.

Average Burden per Response: 10 minutes.

Frequency: As required.

The purpose of the survey is to assess the current status of patient safety in MHS facilities and to assess patient safety improvement over time. The hospital survey tool is the same OMB approved tool that was administered in previous years. There will also be a corresponding outpatient survey tool with congruous questions tailored to the ambulatory or clinic setting. Respondents will select the survey corresponding to their care environment. The Web-based survey will be administered on a voluntary-basis to all staff working in Army, Navy, and Air Force Military Health System (MHS) direct care facilities in the U.S. and internationally, including Military Treatment Facilities (MTF) hospitals as well as ambulatory and dental services. Responses and respondents will remain anonymous. There are two versions of the survey that may be administered, corresponding to the setting in which care is delivered, either Hospital (inpatient) or Ambulatory (outpatient/clinic setting).

Dated: July 24, 2018.
Aaron T. Siegel,
Alternate OSD Federal Register Liaison Officer, Department of Defense.

[FR Doc. 2018-16170 Filed 7-27-18; 8:45 am]

BILLING CODE 5001-06-P